DEPARTMENT OF ENERGY

Secretary of Energy Advisory Board Natural Gas Subcommittee

AGENCY: Department of Energy.

ACTION: Notice of open meeting.

SUMMARY: This notice announces an open meeting of the Secretary of Energy Advisory Board (SEAB) Natural Gas Subcommittee. SEAB was reestablished pursuant to the Federal Advisory Committee Act (Pub. L. 92-463, 86 Stat. 770) (the Act). This notice is provided in accordance with the Act.

DATES: Monday, October 31, 2011; 10 a.m.-12 p.m., 1 p.m.-3 p.m., Tuesday, November 1, 2011; 10 a.m.-12 p.m.

ADDRESSES: Department of Energy, 1000 Independence Avenue, SW., Washington, DC 20585.

FOR FURTHER INFORMATION CONTACT: Renee Stone, Deputy Designated Federal Officer, U.S. Department of Energy, 1000 Independence Avenue, SW., Washington, DC 20585; shalegas@hq.doe.gov or www.shalegas.energy.gov.

SUPPLEMENTARY INFORMATION:

Background

The Subcommittee was established to provide recommendations to the SEAB on how to improve the safety and environmental performance of natural gas hydraulic fracturing from shale formations thereby harnessing a vital domestic energy resource while ensuring the safety of citizen's drinking water and the health of the environment. President Obama directed Secretary Chu to convene this group as part of the President's “Blueprint for a Secure Energy Future”—a comprehensive plan to reduce America's oil dependence, save consumers money, and make our country the leader in clean energy industries.

Purpose of the Meeting

The purpose of this meeting is to allow subcommittee members to discuss progress on implementation of recommendations and further steps that can be taken to improve the process.

Tentative Agenda

The meeting will start at 10 a.m. on October 31, 2011. The tentative meeting agenda includes discussion regarding implementation of recommendations and next steps. The meeting will conclude at 3 p.m. The second meeting, November 1, 2011, will begin at 10 a.m. The tentative meeting agenda includes continued discussion regarding implementation of recommendations and next steps. The meeting will conclude at 12 p.m.

Public Participation

These meetings are open to the public. Individuals who would like to attend must RSVP by e-mail to: shalegas@hq.doe.gov, no later than 5:00 p.m. on Thursday, October 27, 2011, for both meetings. Please provide your name, organization, citizenship, and contact information. Space is limited. Anyone attending the meeting will be required to present government issued identification. Individuals and representatives of organizations who would like to offer comments and suggestions may do so at the end of the meeting on Monday, October 31, 2011 and Tuesday, November 1, 2011. Approximately 30 minutes will be reserved each day for public comments. Time allotted per speaker will depend on the number of individuals who wish to speak but will not, in any circumstance, exceed five minutes. The Designated Federal Officer is empowered to conduct the meeting in a fashion that will facilitate the orderly conduct of business. Those wishing to speak should register to do so beginning at 9:45 a.m. on October 31, 2011 and 9:45 a.m. on November 1, 2011.

Those not able to attend the meeting or have insufficient time to address the committee are invited to send a written statement to Renee Stone, U.S. Department of Energy, 1000 Independence Avenue, SW., Washington, DC 20585, or by e-mail to: shalegas@hq.doe.gov, or post on the subcommittee Web site at: http://www.shalegas.energy.gov.

Issued in Washington, DC, on October 7, 2011.
LaTanya Butler,
Deputy Committee Management Officer.

[FR Doc. 2011-26464 Filed 10-12-11; 8:45 am]

BILLING CODE 6450-01-P